DEPARTMENT OF HEALTH AND HUMAN SERVICES

Food and Drug Administration

[Docket No. FDA-2012-N-0001]

Blood Products Advisory Committee; Cancellation

AGENCY: Food and Drug Administration, HHS.

ACTION: Notice.

SUMMARY: The meeting of the Blood Products Advisory Committee scheduled for February 29, 2012 is cancelled. This meeting was announced in the Federal Register of January 30, 2012 (77 FR 4567). FDA intends to convene at a future date a public scientific workshop to discuss the evaluation of possible new plasma products manufactured following storage at room temperature for up to 24 hours.

FOR FURTHER INFORMATION CONTACT: Bryan Emery or Pearl Muckelvene, Center for Biologics Evaluation and Research (HFM-71), Food and Drug Administration, 1401 Rockville Pike, Rockville, MD 20852, Contact 1-301-827-1277 or 1-301-827-1281, or FDA Advisory Committee Information Line, 1-800-741-8138 (301-443-0572 in the Washington, DC area), and follow the prompts to the desired center or product area. Please call the Information Line for up-to-date information on this meeting.

Dated: February 7, 2012.
Jill Hartzler Warner,
Acting Associate Commissioner for Special Medical Programs.

[FR Doc. 2012-3199 Filed 2-10-12; 8:45 am]

BILLING CODE 4160-01-P